DEPARTMENT OF HEALTH AND HUMAN SERVICES

National Institutes of Health

National Cancer Institute; Amended Notice of Meeting

Notice is hereby given of a change in the meeting of the National Cancer Advisory Board, February 8, 2010, 6:30 p.m. to February 10, 2010, 12 p.m., National Institutes of Health, Building 31, 31 Center Drive, Bethesda, MD 20892, which was published in the Federal Register on January 26, 2010, 75 FR 4093.

This Federal Register Notice is being amended to change the location of the Experimental Therapeutics Ad Hoc Subcommittee Meeting location to the NIH Campus, 6th Floor, Conference Room 7, C Wing, Building 31 instead of the Hyatt Regency Bethesda Hotel. The start and end times have also been changed to 12 p.m. to 1 p.m. instead of 6:30 p.m. to 8 p.m.

Dated: January 28, 2010.
Jennifer Spaeth,
Director, Office of Federal Advisory Committee Policy.

[FR Doc. 2010-2440 Filed 2-4-10; 8:45 am]

BILLING CODE 4140-01-P